OFFICE OF THE UNITED STATES TRADE REPRESENTATIVE

[Docket No. USTR-2013-0030]

2013 Special 301 Out-Of-Cycle Review of Notorious Markets: Request For Public Comments

AGENCY: Office of the United States Trade Representative.

ACTION: Request for written submissions from the public.

SUMMARY: The Office of the United States Trade Representative (USTR) is hereby requesting written submissions from the public identifying potential Internet and physical notorious markets that exist outside the United States and that may be included in the 2013 Notorious Markets List. In 2010, USTR began publishing the notorious market list as an “Out-of-Cycle Review” separately from the annual Special 301 report. This review of notorious markets (“Notorious Markets List”) results in the publication of examples of Internet and physical markets that have been the subject of enforcement action or that may merit further investigation for possible intellectual property infringements.

DATES: The deadline for interested parties to submit written comments is October 11, 2013.

ADDRESSES: All written comments should be sent electronically via http://www.regulations.gov, docket number USTR-2013-0030. Submissions should contain the term “2013 Out-of-Cycle Review of Notorious Markets” in the “Type Comment” field on http://www.regulations.gov.

FOR FURTHER INFORMATION CONTACT: Cecelia Jones-Davis, Executive Assistant, Office of the United States Trade Representative, at (202) 395-9651. Further information about Special 301 can be found at http://www.ustr.gov.

SUPPLEMENTARY INFORMATION:

1. Background

Pursuant to the Administration's 2010 Joint Strategic Plan on Intellectual Property Enforcement, USTR began conducting an Out-of-Cycle Review of Notorious Markets, resulting in publication, separately from the annual Special 301 report, of a “Notorious Markets List.” (The Notorious Markets List had previously been included in annual Special 301 reports.) USTR published the first stand-alone Notorious Markets List in February 2011, and published the subsequent Lists in December 2011 and December 2012. The Notorious Markets List identifies markets, including both physical and Internet markets, as examples of marketplaces that have been the subject of enforcement action or that may merit further investigation for possible intellectual property rights infringements, or both.

The Notorious Markets List does not reflect findings of violation of law, nor does it reflect the United States' analysis of the general climate of protection and enforcement of intellectual property rights in the countries where the markets were located. Rather, the list identifies certain prominent examples of markets in which pirated copyright or counterfeit trademark goods were reportedly available. As part of its outreach efforts, the United States encourages the responsible authorities to step up efforts to combat copyright piracy and trademark counterfeiting in these and similar markets.

2. Public Comments

a. Written Comments

The Special 301 Subcommittee invites written submissions from the public concerning potential examples of Internet and physical “notorious markets.” Notorious markets are those where counterfeit trademark or pirated copyright products are prevalent to such a degree that the market exemplifies the problem of marketplaces that deal in infringing goods and help sustain global piracy and counterfeiting.

b. Requirements for Comments

Interested parties must submit written comments by October 11, 2013. Written comments should be as detailed as possible and should clearly identify the reason or reasons why the nature or scope of activity associated with the identified market or markets exemplify the problem of marketplaces that deal in infringing goods and help sustain global piracy and counterfeiting. Potentially helpful information could include: location; principal owners/operators (if known); types of products sold, distributed, or otherwise made available; information on the volume of Internet traffic associated with a Web site (such as a recent Alexa ranking); any known civil or criminal enforcement activity against the market; other efforts to remove/limit infringing materials (e.g., a Web site's responsiveness to requests to remove or disable access to allegedly infringing material); and any other relevant information, including with respect to positive progress made by operators of the market in addressing infringing activity. Any comments that include quantitative loss claims should be accompanied by the methodology used in calculating such estimated losses. Comments must be in English.

To ensure the timely receipt and consideration of comments, USTR strongly encourages interested persons to make on-line submissions, using the www.regulations.gov Web site. To submit comments via www.regulations.gov, enter docket number USTR-2013-0030 on the home page and click “Search.” The site will provide a search-results page listing all documents associated with this docket. Find a reference to this notice and click on the link entitled “Comment Now!.” (For further information on using the www.regulations.gov Web site, please consult the resources provided on the Web site by clicking on “How to use Regulations.gov” on the bottom of the home page under “Help”.)

The www.regulations.gov Web site allows users to provide comments by filling in a “Type Comment” field, or by attaching a document using an “Upload File” field. USTR prefers that comments be provided in an attached document. If a document is attached, please type “2013 Out-of-Cycle Review of Notorious Markets” in the “Type Comment” field. USTR prefers submissions in Microsoft Word (.doc) or Adobe Acrobat (.pdf) format. If the submission is in another format, please indicate the name of the software application in the “Type Comment” field.

For any comments submitted electronically containing business confidential information, the file name of the business confidential version should begin with the characters “BC”. Any page containing business confidential information must be clearly marked “BUSINESS CONFIDENTIAL” on the top of that page. Filers of submissions containing business confidential information must also submit a public version of their comments. The file name of the public version should begin with the character “P”. The “BC” and “P” should be followed by the name of the person or entity submitting the comments. Filers submitting comments containing no business confidential information should name their file using the name of the person or entity submitting the comments.

Please do not attach separate cover letters to electronic submissions; rather, include any information that might appear in a cover letter in the comments themselves. Similarly, to the extent possible, please include any exhibits, annexes, or other attachments in the same file as the submission itself, not as separate files.

As noted, USTR strongly urges submitters to file comments through www.regulations.gov, if at all possible. Any alternative arrangements must be made with Cecilia Jones-Davis in advance of transmitting a comment. Ms. Jones-Davis should be contacted at (202) 395-9651.

3. Inspection of Comments

Submissions will be placed in the docket and open to public inspection pursuant to 15 CFR 2006.13, except business confidential information exempt from public inspection in accordance with 15 CFR 2006.15. Submissions may be viewed on the www.regulations.gov Web site by entering docket number USTR-2013-0030 in the search field on the home page.

Stanford K. McCoy,
Assistant U.S. Trade Representative for Intellectual Property and Innovation.

[FR Doc. 2013-22857 Filed 9-19-13; 8:45 am]

BILLING CODE 3290-F3-P